DEPARTMENT OF THE INTERIOR

Fish and Wildlife Service

Sport Fishing and Boating Partnership Council

AGENCY: Fish and Wildlife Service, Interior.

ACTION: Notice of meeting.

SUMMARY: The Fish and Wildlife Service announces that the Sport Fishing and Boating Partnership Council (Council) will meet November 8-9, 2006.

DATES: The meeting will be held on Wednesday, November 8, 2006, from 12 p.m. to 5 p.m., and on Thursday, November 9, 2006, from 8:30 a.m. to 1 p.m. Members of the public wishing to attend the meeting must notify Douglas Hobbs by close of business on Monday, November 6, 2006, per instructions under SUPPLEMENTARY INFORMATION.

ADDRESSES: The meeting will be held at the Mills House Hotel, 115 Meeting Street, Charleston, SC 29401; telephone (843) 577-2400.

FOR FURTHER INFORMATION CONTACT: Douglas Hobbs, Council Coordinator, 4401 North Fairfax Drive, Mailstop 3103-AEA, Arlington, Virginia 22203; telephone (703) 358-2336; fax (703) 358-2548; or via e-mail at doug_hobbs@fws.gov.

SUPPLEMENTARY INFORMATION: In accordance with the requirements of the Federal Advisory Committee Act, 5 U.S.C. App., notice is hereby given that the Sport Fishing and Boating Partnership Council will meet on Wednesday, November 8, 2006, from 12 p.m. to 5 p.m., and on Thursday, November 9, 2006, from 8:30 a.m. to 1 p.m. at the Mills House Hotel in Charleston, South Carolina.

The Council was formed in January 1993 to advise the Secretary of the Interior, through the Director, U.S. Fish and Wildlife Service, about sport fishing and boating issues. The Council represents the interests of the public and private sectors of the sport fishing and boating communities and is organized to enhance partnerships among industry, constituency groups, and government. The 18-member Council, appointed by the Secretary of the Interior, includes the Director of the Service and the president of the Association of Fish and Wildlife Agencies, who both serve in ex officio (by virtue of office) capacities. Other Council members are Directors from State agencies responsible for managing recreational fish and wildlife resources and individuals who represent the interests of saltwater and freshwater recreational fishing, recreational boating, the recreational fishing and boating industries, recreational fisheries resource conservation, aquatic resource outreach and education, and tourism.

Background information on the Council is available at http://www.fws.gov/sfbpc. The Council will convene to discuss: (1) The Council's continuing role in providing input to the Fish and Wildlife Service on the Service's strategic plan for its Fisheries Program; (2) the Council's work in addressing the issue of boating and fishing access; (3) the Council's work in its role as a facilitator of discussions with Federal and State agencies and other sport fishing and boating interests concerning a variety of national boating and fisheries management issues; (4) the Council's work to assess the clean Vessel Act Grant Program; (5) a possible Council role in communicating with partners and stakeholders about the Sport Fish Restoration and Boating Trust Fund; and (6) the Council's role in providing the Secretary of the Interior with information about the implementation of the Strategic Plan for the National Outreach and Communications Program, authorized by the 1998 Sportfishing and Boating Safety Act, that is now being implemented by the Recreational Boating and Fishing Foundation, a private, nonprofit organization. The agenda may change to accommodate Council business. The final agenda will be posted on the Internet at http://www.fws.gov/sfbpc.

Individuals and representatives of organizations who would like to offer comments and suggestions related to the Council's affairs are invited to request a place on the agenda. On November 9, 2006, time will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the Sport Fishing and Boating Partnership Council, 4401 North Fairfax Drive, Mailstop 3103-AEA, Arlington, Virginia 22203; via fax at (703) 358-2548; or via e-mail to doug_hobbs@fws.gov.

All visitors are required to pre-register to be admitted. Anyone wishing to attend this meeting must register by close of business Monday, November 6, 2006. Please submit your name, estimated time of arrival, e-mail address, and phone number to Douglas Hobbs, and he will provide you with instructions for admittance. Mr. Hobbs' e-mail address is doug_hobbs@fws.gov and his phone number is (703) 358-2336.

Summary minutes of the conference will be maintained by the Council Coordinator at 4401 N. Fairfax Drive, MS-3101-AEA, Arlington, VA 22203, and will be available for public inspection during regular business hours within 30 days following the meeting. Personal copies may be purchased for the cost of duplication.

Dated: September 26, 2006.
Marshall P. Jones, Jr.,
Acting Director.

[FR Doc. E6-17418 Filed 10-18-06; 8:45 am]

BILLING CODE 4310-55-P